DEPARTMENT OF COMMERCE

National Oceanic and Atmospheric Administration

RIN 0648-XC527

Pacific Fishery Management Council (Pacific Council); March 5-11, 2013 Pacific Council Meeting

AGENCY: National Marine Fisheries Service (NMFS), National Oceanic and Atmospheric Administration (NOAA), Commerce.

ACTION: Notice of public meetings.

SUMMARY: The Pacific Council and its advisory entities will hold public meetings.

DATES: The Pacific Council and its advisory entities will meet March 5-11, 2013. The Pacific Council meeting will begin on Thursday, March 7, 2013, at 8 a.m., reconvening each day through Monday, March 11, 2013. All meetings are open to the public, except a closed session will be held at the end of the scheduled agenda on Saturday, March 9 to address litigation and personnel matters. The Pacific Council will meet as late as necessary each day to complete its scheduled business. In addition to the formal, numbered agenda items, there will be an informal Council informational session on the morning of Thursday, March 7 to help with understanding various issues and objectives associated with developing a new management process for groundfish fisheries under Amendment 24.

ADDRESSES: Meetings of the Pacific Council and its advisory entities will be held at the Hotel Murano, 1320 Broadway Plaza, Tacoma, Washington 98402; telephone: 888-862-3255. The Pacific Council address is Pacific Fishery Management Council, 7700 NE Ambassador Place, Suite 101, Portland, Oregon 97220.

FOR FURTHER INFORMATION CONTACT: Dr. Donald O. McIsaac, Executive Director; telephone: 503-820-2280 or 866-806-7204 toll free; or access the Pacific Council Web site, http://www.pcouncil.org for the current meeting location, proposed agenda, and meeting briefing materials.

SUPPLEMENTARY INFORMATION: The following items are on the Pacific Council agenda, but not necessarily in this order.

A. Call to Order

1. Opening Remarks

2. Roll Call

3. Executive Director's Report

4. Approve Agenda

B. Open Comment Period

1. Comments on Non-Agenda Items

C. Salmon Management

1. Review of 2012 Fisheries and Summary of 2013 Stock Abundance Forecasts

2. Identification of Management Objectives and Preliminary Definition of 2013 Salmon Management Alternatives

3. National Marine Fisheries Service Report

4. Council Recommendations for 2013 Management Alternative Analysis

5. Further Council Direction for 2013 Management Alternatives

6. Adoption of 2013 Management Alternatives for Public Review

7. Salmon Hearings Officers

D. Coastal Pelagic Species Management

1. Exempted Fishing Permits for 2013

E. Habitat

1. Current Habitat Issues

F. Administrative Matters

1. Research Planning

2. Approval of Council Meeting Minutes

3. Membership Appointments and Council Operating Procedures

4. Future Council Meeting Agenda and Workload Planning

G. Pacific Halibut Management

1. Report on the International Pacific Halibut Commission Meeting

2. Pacific Halibut Management South of Humbug Mountain

3. Incidental Catch Regulations for the Salmon Troll and Fixed Gear Sablefish Fisheries

H. Groundfish Management

1. NMFS Report

2. Status Determination Criteria for Data-Moderate Stocks

3. Consideration of Inseason Adjustments, Including Carryover

4. Amendment 24: Improvements to the Groundfish Management Process

I. Highly Migratory Species Management

1. NMFS Report

2. Swordfish Management Report on Potential Changes to the Turtle Conservation Area and Take Limits

3. Recommendations for International Management Activities

J. Enforcement Issues

1. Current Enforcement Issues

Schedule of Ancillary Meetings

Day 1—Tuesday, March 5, 2013

Scientific and Statistical Committee Groundfish Subcommittee 9 a.m.

Day 2—Wednesday, March 6, 2013

Washington State Delegation 7 a.m.

Groundfish Management Team 8 a.m.

Scientific and Statistical Committee 8 a.m.

Salmon Advisory Subpanel 8 a.m.

Salmon Technical Team 8 a.m.

Habitat Committee 8:30 a.m.

Day 3—Thursday, March 7, 2013

California State Delegation 7 a.m.

Oregon State Delegation 7 a.m.

Washington State Delegation 7 a.m.

Groundfish Management Team 8 a.m.

Groundfish Advisory Subpanel 8 a.m.

Salmon Advisory Subpanel 8 a.m.

Salmon Technical Team 8 a.m.

Scientific and Statistical Committee 8 a.m.

Enforcement Consultants 4:30 p.m.

Tribal Policy Group As Needed.

Tribal and Washington Technical Group As Needed.

Day 4—Friday, March 8, 2013

California State Delegation 7 a.m.

Oregon State Delegation 7 a.m.

Washington State Delegation 7 a.m.

Groundfish Advisory Subpanel 8 a.m.

Groundfish Management Team 8 a.m.

Salmon Advisory Subpanel 8 a.m.

Salmon Technical Team 8 a.m.

Scientific and Statistical Committee Economic Subcommittee 8:30 a.m.

Enforcement Consultants As Needed.

Tribal Policy Group As Needed.

Tribal and Washington Technical Group As Needed.

Day 5—Saturday, March 9, 2013

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Salmon Advisory Subpanel 8 a.m.

Salmon Technical Team 8 a.m.

Enforcement Consultants As Needed.

Tribal Policy Group As Needed.

Tribal and Washington Technical Group As Needed.

Day 6—Sunday, March 10, 2013

California State Delegation 7 a.m.

Oregon State Delegation 7 a.m.

Washington State Delegation 7 a.m.

Highly Migratory Species Advisory Subpanel 8 a.m.

Highly Migratory Species Management Team 8 a.m.

Salmon Advisory Subpanel 8 a.m.

Salmon Technical Team 8 a.m.

Enforcement Consultants As Needed.

Tribal Policy Group As Needed.

Tribal and Washington Technical Group As Needed.

Day 7—Monday, March 11, 2013

California State Delegation 7 a.m.

Oregon State Delegation 7 a.m.

Washington State Delegation 7 a.m.

Salmon Advisory Subpanel 8 a.m.

Salmon Technical Team 8 a.m.

Enforcement Consultants As Needed.

Tribal Policy Group As Needed.

Tribal and Washington Technical Group As Needed.

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Carolyn Porter at 503-820-2280 at least five days prior to the meeting date.

Dated: February 26, 2013.
William D. Chappell,
Acting Deputy Director, Office of Sustainable Fisheries, National Marine Fisheries Service.

[FR Doc. 2013-04783 Filed 2-26-13; 4:15 pm]

BILLING CODE 3510-22-P